GENERAL SERVICES ADMINISTRATION

[OMB Control No. 3090-0118; Docket 2017-0001; Sequence 2]

Submission for OMB Review; Statement of Witness, Standard Form 94

AGENCY: Federal Vehicle Policy Division, General Services Administration (GSA).

ACTION: Notice of a request for comments regarding a reinstatement, with change, to an OMB clearance.

SUMMARY: Under the provisions of the Paperwork Reduction Act of 1995, GSA has submitted to the Office of Management and Budget (OMB) a request to review and approve a reinstatement, with change, to an information collection requirement concerning Standard Form (SF) 94, Statement of Witness. A notice was published in the Federal Register at 82 FR 19722, on April 28, 2017. No comments were received.

DATES: Submit comments on or before August 7, 2017.

FOR FURTHER INFORMATION CONTACT: Ray Wynter, Federal Vehicle Policy Division, at 202-501-3802, or email ray.wynter@gsa.gov.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 3090-0118, Statement of Witness, SF 94.” Follow the instructions provided at the “Submit a Comment” screen. Please include your name, company name (if any), and “Information Collection 3090-0118, Statement of Witness, SF 94” on your attached document.

• Mail: General Services Administration, Regulatory Secretariat Division (MVCB), 1800 F Street NW., Washington, DC 20405. ATTN: Ms. Sosa/IC 3090-0118, Statement of Witness, SF 94.

Instructions: Please submit comments only and cite Information Collection 3090-0118, Statement of Witness, SF 94, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Purpose

GSA is requesting the Office of Management and Budget (OMB) to review and approve a reinstatement, with change, to information collection, 3090-0118, Statement of Witness, SF 94. The forms are used by all Federal agencies to report accident information involving U.S. Government motor vehicles.

B. Annual Reporting Burden

Respondents: 874.

Responses per Respondent: 1.

Total Annual Responses: 874.

Hours per response: .333.

Total Burden Hours: 291.

C. Public Comment

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite OMB Control No. 3090-0118, Statement of Witness, SF 94, in all correspondence.

Dated: June 29, 2017.
David A. Shive,
Chief Information Officer.

[FR Doc. 2017-14183 Filed 7-5-17; 8:45 am]

BILLING CODE 6820-34-P